FEDERAL COMMUNICATIONS COMMISSION

Notice of Public Information Collection(s) Being Submitted to OMB for Review and Approval

May 17, 2004.

SUMMARY: The Federal Communications Commissions, as part of its continuing effort to reduce paperwork burden invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 22, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3087 or via the Internet at Kristy_L._LaLonde@omb.eop.gov.

FOR FURTHER INFORMATION CONTACT: For additional information or copy of the information collection(s) contact Les Smith at (202) 418-0217 or via the Internet at Leslie.Smith@fcc.gov.

SUPPLEMENTARY INFORMATION: OMB Control Number: 3060-0016.

Title: Application for Authority to Construct or Make Changes in a Low Power TV, TV Translator, or TV Booster Station, FCC Form 346.

Form Number: FCC 346.

Type of Review: Revision of currently approved collection.

Respondents: Businesses or other for-profit entities; Not-for-profit institutions; and State, local or tribal government.

Number of Respondents: 2,000.

Estimated Time per Response: 7 hours.

Frequency of Response: On occasion reporting requirements; Third party disclosure.

Total Annual Burden: 14,000.

Total Annual Costs: $5,996,000.

Privacy Impact Assessment: No impact(s).

Needs and Uses: Licensees/permittees/applicants use FCC Form 346 to apply for authority to construct or make changes in a Low Power Television, TV Translator, or TV Booster broadcast station. Applicants are also subject to the third party disclosure requirements under 47 CFR Section 73.3580. Within 30 days of tendering the application, the applicant is required to publish a notice in a newspaper of general circulation when filing all applications for new or major changes in facilities—the notice is to appear at least twice a week for two consecutive weeks in a three-week period. A copy of this notice must be maintained with the application. FCC staff use the data to determine if the applicant is qualified, meets basic statutory and treaty requirements, and will not cause interference to other authorized broadcast services. The FCC issued Public Notice DA 02-1087 on May 13, 2002 to require electronic filing of FCC Form 346 unless the Commission issues a waiver to the filer.

OMB Control Number: 3060-0937.

Title: Establishment of a Class A Television Service.

Form Number: N/A.

Type of Review: Extension of currently approved collection.

Respondents: Business or other for-profit entities.

Number of Respondents: 600.

Estimated Time per Response: 0.017 hours-52 hours.

Total Annual Burden: 280,432 hours.

Total Annual Costs: $1,327,500.

Privacy Impact Assessment: No impact(s).

Needs and Uses: The Report and Order in MM Docket No. 00-10 adopted rules for Class A LPTV broadcasters. Class A LPTV broadcasters are subject to the Commission's operating rules for full-service television stations. The Report and Order modified all pertinent 47 CFR Part 73 rules to indicate their applicability to Class A LPTV licensees. The information collection requirements contained within this Report and Order ensure that the integrity of the TV spectrum is not compromised. These requirements also ensure that unacceptable interference is not caused to existing radio services, and that statutory requirements are met. The Part 73 rules ensure that the stations are operated in the public interest.

Federal Communications Commission.
Marlene H. Dortch,
Secretary.

[FR Doc. 04-14117 Filed 6-21-04; 8:45 am]

BILLING CODE 6712-01-P